DEPARTMENT OF HEALTH AND HUMAN SERVICES

Food and Drug Administration

[Docket No. FDA-2009-D-0600]

Draft Guidance for Industry on Tobacco Health Document Submission; Availability; Correction

AGENCY: Food and Drug Administration, HHS.

ACTION: Notice; correction.

SUMMARY: The Food and Drug Administration (FDA) is correcting a notice that appeared in the Federal Register of December 28, 2009 (74 FR 68629). The notice announced the availability of a draft guidance entitled “Tobacco Health Document Submission.” The notice published with an inadvertent error in the Supplementary Information, background section. This document corrects that error.

FOR FURTHER INFORMATION CONTACT: May Nelson, Center for Tobacco Products, Food and Drug Administration, 9200 Corporate Blvd., Rockville, MD 20850-3229, 240-276-1717, May.Nelson@fda.hhs.gov.

SUPPLEMENTARY INFORMATION: In FR Doc. E9-30657, appearing on page 68629, in the Federal Register of Monday, December 28, 2009, the following correction is made:

1. On page 68629, in the second column, in the Supplementary Information, I. Background section, in the second full paragraph, in the last sentence, the date “April 30, 2009” is corrected to read “April 30, 2010”.

Dated: January 11, 2010.
David Dorsey,
Acting Deputy Commissioner for Policy, Planning and Budget.

[FR Doc. 2010-576 Filed 1-13-10; 8:45 am]

BILLING CODE 4160-01-S